DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Date of modification | Community No.
Alabama: St. Clair (FEMA Docket No.: B-2437). | Unincorporated areas of St. Clair County (23-04-6468P). | The Honorable Stan Batemon, Chair, St. Clair County Board of Commissioners, 165 5th Avenue, Suite 100, Ashville, AL 35953. | St. Clair County Engineering Department, 31588 Highway 231, Ashville, AL 35953. | Aug. 23, 2024 | 010290
Colorado:
Arapahoe (FEMA Docket No.: B-2435). | City of Aurora (23-08-0403P). | The Honorable Mike Coffman, Mayor, City of Aurora, 15151 East Alameda Parkway, Aurora, CO 80012. | Public Works Department, 15151 East Alameda Parkway, Aurora, CO 80012. | Aug. 16, 2024 | 080002
Arapahoe (FEMA Docket No.: B-2435). | Unincorporated areas of Arapahoe County (23-08-0403P). | Carrie Warren-Gully, Chair, Arapahoe County Board of Commissioners, 5334 South Prince Street, Littleton, CO 80210. | Arapahoe County Public Works and Development Department, 6924 South Lima Street, Centennial, CO 80112. | Aug. 16, 2024 | 080011
Larimer (FEMA Docket No.: B-2437). | City of Loveland (22-08-0337P). | The Honorable Jacki Marsh, Mayor, City of Loveland, 500 East 3rd Street, Suite 330, Loveland, CO 80537. | City Hall, 700 Wood Street, Loveland, CO 80537. | Aug. 19, 2024 | 080103
Larimer (FEMA Docket No.: B-2437). | Unincorporated areas of Larimer County (22-08-0337P). | John Kefalas, Chair, Larimer County Board of Commissioners, P.O. Box 1190, Fort Collins, CO 80522. | Larimer County Engineering Department, 200 West Oak Street, Suite 3000, Fort Collins, CO 80521. | Aug. 19, 2024 | 080101
Weld (FEMA Docket No.: B-2435). | City of Greeley (24-08-0061P). | The Honorable John Gates, Mayor, City of Greeley, 1000 10th Street, Greeley, CO 80631. | City Hall, 1000 10th Street, Greeley, CO 80631. | Aug. 15, 2024 | 080184
Connecticut: New Haven (FEMA Docket No.: B-2437). | City of Meriden (23-01-0147P). | The Honorable Kevin Scarpati, Mayor, City of Meriden, 142 East Main Street, Meriden, CT 06450. | Public Works Department, 142 East Main Street, Meriden, CT 06450. | Aug. 8, 2024 | 090081
Florida:
Escambia, (FEMA Docket No.: B-2435). | Unincorporated areas of Escambia County, (23-04-3556P). | Steven Barry, Chair, Escambia County Board of Commissioners, 3363 West Park Place, Pensacola, FL 32505. | Escambia County Building Department, 3363 West Park Place, Pensacola, FL 32505. | Aug. 9, 2024 | 120080
Pasco (FEMA Docket No.: B-2435). | Unincorporated areas of Pasco County (23-04-6016P). | Ron Oakley, Chair, Pasco County Board of Commissioners, 37918 Meridian Avenue, Dade City, FL 33525. | Pasco County Building Construction Services Department, 8661 Citizens Drive, Suite 100, New Port Richey, FL 34654. | Aug. 12, 2024 | 120230
Seminole (FEMA Docket No.: B-2435). | City of Oviedo (23-04-6041P). | Bryan Cobb, City of Oviedo Manager, 400 Alexandria Boulevard, Oviedo, FL 32762. | Public Works Department, 1655 Evans Street, Oviedo, FL 32765. | Aug. 15, 2024 | 120293
Seminole (FEMA Docket No.: B-2435). | Unincorporated areas of Seminole County (23-04-6041P). | Darren Gray, Seminole County Manager, 1101 East 1st Street, Sanford, FL 32771. | Seminole County Building Division, 1101 East 1st Street, Sanford, FL 32771. | Aug. 15, 2024 | 120289
Volusia (FEMA Docket No.: B-2437). | City of Daytona Beach (23-04-5711P). | The Honorable Derrick Henry, Mayor, City of Daytona Beach, 301 South Ridgewood Avenue, Daytona Beach, FL 32114. | City Hall, 301 South Ridgewood Avenue, Daytona Beach, FL 32114. | Aug. 26, 2024 | 125099
Kentucky: Fayette, (FEMA Docket No.: B-2437). | Lexington-Fayette Urban County Government, (23-04-5603P). | The Honorable Linda Gorton, Mayor, Lexington-Fayette Urban, County Government, 101 East Main Street, Lexington, KY 40507. | Engineering Department, 101 East Vine Street, Suite 400, Lexington, KY 40507. | Aug. 9, 2024 | 210067
Maine: Penobscot (FEMA Docket No.: B-2435). | Town of Hampden (23-01-0389P). | Paula Scott, Manager, Town of Hampden, 106 Western Avenue, Hampden, ME 04444. | Department of Public Safety, Code Enforcement Office, 106 Western Avenue, Hampden, ME 04444. | Aug. 7, 2024 | 230168
North Carolina:
Buncombe (FEMA Docket No.: B-2445). | City of Asheville (22-04-5732P). | The Honorable Esther E. Manheimer, Mayor, City of Asheville, P.O. Box 7148, Asheville, NC 28802. | Stormwater Services and Utility Department, 161 South Charlotte Street, Asheville, NC 28801. | Aug. 26, 2024. | 370032
Buncombe (FEMA Docket No.: B-2445). | Town of Woodfin (22-04-5732P). | The Honorable Jim McAllister, Mayor, Town of Woodfin, 90 Elk Mountain Road, Woodfin, NC 28804. | Planning and Zoning Department, 90 Elk Mountain Road, Woodfin, NC 28804. | Aug. 26, 2024. | 370380
Buncombe (FEMA Docket No.: B-2445). | Unincorporated areas of Buncombe County (22-04-5732P). | Brownie Newman, Chair, Buncombe County Board of Commissioners, 200 College Street, Suite 300, Asheville, NC 28801. | Buncombe County Planning and Development Department, 46 Valley Street Asheville, NC 28801. | Aug. 26, 2024. | 370031
Pennsylvania: Dauphin (FEMA Docket No.: B-2437). | Township of Derry (23-03-0300P). | Chris Abruzzo, Chair, Township of Derry Board of Supervisors, 600 Clearwater Road, Hershey, PA 17033. | Department of Community Development, 600 Clearwater Road, Hershey, PA 17033. | Aug. 23, 2024 | 420376
South Carolina:
Berkeley (FEMA Docket No.: B-2437). | Unincorporated areas of Berkeley County (22-04-5275P). | Johnny Cribb, Berkeley County Supervisor, 1003 North Highway 52, Moncks Corner, SC 29461. | Berkeley County Flood Map Repository, 1003 North Highway 52, Moncks Corner, SC 29461. | Aug. 22, 2024 | 450029
Horry, (FEMA Docket No.: B-2435). | Unincorporated areas of Horry County, (23-04-0840P). | Johnny Gardner, Chair, Horry County Council, 1301 2nd Avenue, Conway, SC 29526. | Horry County Code Enforcement Department, 1301 2nd Avenue, Conway, SC 29526. | Aug. 16, 2024 | 450104
Jasper (FEMA Docket No.: B-2435). | City of Hardeeville (23-04-4472P). | The Honorable Harry Williams, Mayor, City of Hardeeville, P.O. Box 609, Hardeeville, SC 29927. | City Hall, 205 Main Street, Hardeeville, SC 29927. | Aug. 8, 2024 | 450113
Jasper (FEMA Docket No.: B-2435). | Unincorporated areas of Jasper County (23-04-4472P). | Andrew P. Fulghum, Jasper County Administrator, P.O. Box 1149, Ridgeland, SC 29936. | Jasper County Government Building, 358 3rd Avenue, Ridgeland, SC 29936. | Aug. 8, 2024 | 450112
York (FEMA Docket No.: B-2437). | Unincorporated areas of York County (23-04-6210P). | David Hudspeth, York County Manager, 6 South Congress Street, York, SC 29745. | York County Planning and Development Services Department, 18 West Liberty Street, York, SC 29745. | Aug. 22, 2024 | 450193
Texas:
Atascosa (FEMA Docket No.: B-2437). | Unincorporated areas of Atascosa County (23-06-1680P). | The Honorable Weldon Cude, Atascosa County Judge, 1 Courthouse Circle Drive, Suite 206, Jourdanton, TX 78026. | Atascosa County Courthouse, 1 Courthouse Circle Drive, Jourdanton, TX 78026. | Aug. 8, 2024 | 480014
Bexar (FEMA Docket No.: B-2439). | City of San Antonio (24-06-0704P). | The Honorable Ron Nirenberg, Mayor, City of San Antonio, P.O. Box 839966, San Antonio, TX 78283. | Transportation and Capitol Improvements Department, Storm Water Division, 1901 South Alamo Street, 2nd Floor, San Antonio, TX 78214. | Aug. 26, 2024 | 480045
Collin (FEMA Docket No.: B-2435). | City of Allen (23-06-0949P). | The Honorable Baine Brooks, Mayor, City of Allen, 305 Century Parkway, Allen, TX 75013. | City Hall, 305 Century Parkway, Allen, TX 75013. | Aug. 19, 2024 | 480131
Collin. | City of Frisco (24-06-0036P). | The Honorable Jeff Cheney, Mayor, City of Frisco, 6101 Frisco Square Boulevard, Frisco, TX 75034. | Engineering Department, 6101 Frisco Square Boulevard, 3rd Floor, Frisco, TX 75034. | Aug. 19, 2024 | 480134
Collin (FEMA Docket No.: B-2435). | City of Parker (23-06-0949P). | The Honorable Lee Pettle, Mayor, City of Parker, 5700 East Parker Road, Parker, TX 75002. | City Hall, 5700 East Parker Road, Parker, TX 75002. | Aug. 19, 2024 | 480139
Collin. | City of Plano (24-06-0036P). | The Honorable John B. Muns, Mayor, City of Plano, 1520 K Avenue, Plano, TX 75074. | Engineering Department, 1520 K Avenue, Plano, TX 75074. | Aug. 19, 2024 | 480140
Collin (FEMA Docket No.: B-2435). | Unincorporated areas of Collin County (23-06-0949P). | The Honorable Chris Hill, Collin County Judge, 2300 Bloomdale Road, McKinney, TX 75071. | Collin County, Juvenile Justice Alternative Education Program Building, 4690 Community Avenue, McKinney, TX 75071. | Aug. 19, 2024 | 480130
Fort Bend (FEMA Docket No.: B-2435). | City of Missouri City (23-06-0961P). | The Honorable Robin J. Elackatt, Mayor, City of Missouri City, 1522 Texas Parkway, Missouri City, TX 77489. | City Hall, 1522 Texas Parkway, Missouri City, TX 77489. | Aug. 9, 2024 | 480304
Fort Bend (FEMA Docket No.: B-2435). | Unincorporated areas of Fort Bend County (23-06-0961P). | The Honorable K.P. George, Fort Bend County Judge, 401 Jackson Street, Richmond, TX 77469. | Fort Bend County Engineering Department, 401 Jackson Street, 4th Floor, Richmond, TX 77469. | Aug. 9, 2024 | 480228
Grayson (FEMA Docket No.: B-2435). | City of Van Alstyne (23-06-2387P). | The Honorable Jim Atchison, Mayor, City of Van Alstyne, P.O. Box 274, Van Alstyne, TX 75495. | City Hall, 152 North Main Drive, Van Alstyne, TX 75495. | Aug. 14, 2024 | 481620
Grayson (FEMA Docket No.: B-2435). | Unincorporated areas of Grayson County (23-06-2387P). | The Honorable Bruce Dawsey, Grayson County Judge, 100 West Houston Street, Sherman, TX 75090. | Grayson County Courthouse, 100 West Houston Street, Sherman, TX 75090. | Aug. 14, 2024 | 480829
Utah: Tooele (FEMA Docket No.: B-2439). | City of Tooele (23-08-0698P). | The Honorable Debbie Winn, Mayor, City of Tooele, 90 North Main Street, Tooele, UT 84074. | Engineering Department, 90 North Main Street, Tooele, UT 84074. | Aug. 22, 2024 | 490145

[FR Doc. 2024-20521 Filed 9-10-24; 8:45 am]

BILLING CODE 9110-12-P